DEPARTMENT OF DEFENSE

Negotiation of a Reciprocal Defense Procurement Memorandum of Understanding With Argentina

AGENCY: Department of Defense (DoD).

ACTION: Request for industry feedback regarding experience in public (defense) procurements conducted by Argentina.

SUMMARY: DoD is commencing negotiation of a Reciprocal Defense Procurement Memorandum of Understanding (MOU) with Argentina. DoD is soliciting input from U.S. industry that has had experience participating in public defense procurements conducted by or on behalf of the Argentine Ministry of Defense or Armed Forces. The contemplated MOU would involve reciprocal waivers of buy-national laws by each country. This would mean that Argentina would be added to the list of “qualifying countries” in the Defense Federal Acquisition Regulation Supplement (DFARS) and that U.S. products and services would be exempt from “Buy Argentine” laws applicable to procurements by the Argentine Ministry of Defense and Armed Forces.

DATES: Comments must be received by September 30, 2005.

ADDRESSES: You may submit comments to Director, Defense Procurement and Acquisition Policy, 3060 Defense Pentagon, Attn: Mr. Daniel C. Nielsen, Washington, DC 20301-3060; or by e-mail to barbara.glotfelty@osd.mil.

FOR FURTHER INFORMATION CONTACT: Ms. Barbara Glotfelty, OUSD(AT&L), Director of Defense Procurement and Acquisition Policy, Program Acquisition and International Contracting, Room 5E581, 3060 Defense Pentagon, Washington, DC 20301-3060; telephone (703) 697-9351.

SUPPLEMENTARY INFORMATION: The Reciprocal Defense Procurement MOUs DoD has with 21 countries are signed at the level of the Secretary of Defense and his counterpart. The purpose of these MOUs is to promote rationalization, standardization, and interoperability of defense equipment with allies and friendly governments. It provides a framework for ongoing communication regarding market access and procurement matters that affect effective defense cooperation. Based on the MOU, each country affords the other certain benefits on a reciprocal basis, consistent with national laws and regulations. For 19 of the 21 MOU countries, these include evaluation of offers without applying price differentials under “Buy National” laws (e.g., the Buy American Act), and making provision for duty-free certificates.

Argentina was designated a Major Non-NATO Ally by the United States in January 1998, in recognition of its contributions to international security and peacekeeping.

The countries with which DoD has Reciprocal Defense Procurement MOUs are identified in DFARS 225.872-1. Should an MOU be concluded with Argentina, Argentina would be added to the list of qualifying countries. If, based on and in conjunction with the MOU, DoD determines that it would be inconsistent with the public interest to apply the restrictions of the Buy American Act to the acquisition of Argentine defense equipment and supplies, Argentina would be listed in DFARS 225.872-1(a). If a determination will be made on a purchase-by-purchase basis, Argentina would be listed in DFARS 225.872-1(b).

MOUs generally include language by which the parties agree that their procurements will be conducted in accordance with certain implementing procedures. These procedures include publication of notices of proposed purchases; the content and availability of solicitations for proposed purchases; notification to each unsuccessful offeror; feedback, upon request, to unsuccessful offerors concerning the reasons they were not allowed to participate in a procurement or were not awarded a contract; and providing for the hearing and review of complaints arising in connection with any phase of the procurement process to ensure that, to the extent possible, complaints are equitably and expeditiously resolved between an offeror and the procuring activity.

While DoD has evaluated Argentine laws and regulations regarding public procurements, DoD would benefit from knowledge of U.S. industry experience in participating in Argentine public defense procurements. We are, therefore, asking U.S. firms that have participated or attempted to participate in procurements by or on behalf of Argentina's Ministry of Defense or Armed Forces to let us know if the procurements were conducted in accordance with published procedures with fairness and due process, and if not, the nature of the problems encountered.

Michele P. Peterson,
Editor, Defense Acquisition Regulations System.

[FR Doc. 05-17348 Filed 8-30-05; 8:45 am]

BILLING CODE 5001-08-P